DEPARTMENT OF LABOR

Office of the Secretary

Submission for OMB Review: Comment Request

June 16, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: (1) Miner's Claim for Benefits under the Black Lung Benefits Act; (2) Employment History.

OMB Number: 1215-0052.

Frequency: On occasion.

Type of Response: Reporting.

Affected Public: Individuals or households and business or other for-profit.

Number of Respondents: 9,000.

Form | Estimated annual responses | Average response time (hours) | Estimated annual burden hours
CM-911 | 4,000 | 0.75 | 3,000
CM-911a | 5,000 | 0.67 | 3,333
Total | 9,000 |  | 6,333

Total Annualized Capital/Startup Costs: $0.

Total Annual Costs (Operating/Maintaining Systems or Purchasing Services): $1,000.

Description: The Black Lung Act of 1977, as amended, 30 U.S.C. 901 et seq., provides for the payment of benefits to a coal miner who is totally disabled due to pneumoconiosis (black lung disease) and to certain survivors of the miner who died due to pneumoconiosis. A miner who applies for black lung benefits must complete the CM-911 (application form). The completed CM-911 gives basic identifying information about the applicant and is the beginning of the development of the black lung claim. An applicant filing for black lungs benefits must also complete a CM-911a at the same time the black lung application form is submitted. The CM-911a when completed is formatted to render a complete history of employment and helps to establish if the miner currently or formerly worked in the nation's coal mines. The Black Lung Benefits Act as amended, 30 U.S.C. et seq. and 20 CFR 725.304a, necessitates the collection of this information.

Agency:Employment Standards Administration.

Type of Review: Extension of currently approved collection.

Title: Housing Terms and Conditions.

OMB Number: 1215-0146.

Frequency: On occasion.

Type of Response: Third party disclosure.

Affected Public: Farms and business or other for-profit.

Number of Respondents: 1,300.

Estimated Annual Responses: 1,300.

Average Response Time: 30 minutes.

Annual Burden Hours: 650.

Total Annualized Capital/Startup Costs: $0.

Total Annual Costs (Operating/Maintaining Systems or Purchasing Services): $0.

Description: The Migrant and Seasonal Agricultural Worker Protection Act (MSPA), 29 U.S.C. 1801 et seq., section 201(c) requires any farm labor contractor, agricultural employer or agricultural association providing housing to any migrant agricultural worker to post in a conspicuous place, or present to the migrant worker, a statement of any housing occupancy terms and conditions. In addition, MSPA section 201(g) requires a farm labor contractor, agricultural employer or agricultural association providing housing to any migrant agricultural worker to give such information in English, or as necessary and reasonable, in a language common to the worker and that the Department of Labor (DOL) makes forms available to provide such information. The implementing regulations for the MSPA set forth, at 29 CFR 500.75(f) and (g), the housing terms that a farm labor contractor, agricultural employer or agricultural association providing housing to any migrant agricultural worker must post or give in a written statement to the worker. Regulation 29 CFR 500.1(i)(2) provides for Form WH-521 that a farm labor contractor, agricultural employer or agricultural association may use, at its option, to satisfy MSPA requirements. Form WH-521 is an optional form that a farm labor contractor, agricultural employer or agricultural association may post or present to a migrant agricultural worker to list the housing terms and conditions. While use of the Form WH-521 is optional, the MSPA requires disclosure of the information.

Agency: Employment Standards Administration.

Type of Review: Extension of currently approved collection.

Title: Rehabilitation Action Report.

OMB Number: 1215-0182.

Frequency: On occasion.

Type of Response: Reporting.

Affected Public: Business or other for-profit.

Number of Respondents: 7,000.

Estimated Annual Responses: 7,000.

Average Response Time: 10 minutes.

Annual Burden Hours: 1,169.

Total Annualized Capital/Startup Costs: $0.

Total Annual Costs (Operating/Maintaining Systems or Purchasing Services): $0.

Description: The Office of Workers' Compensation Programs (OWCP) administers the Federal Employees' Compensation Act (FECA) and the Longshore and Harbor Workers' Compensation Act (LHWCA). These Acts provide vocational rehabilitation services to eligible workers with disabilities. Section 8104(a) of the FECA and section 939(c) of the LHWCA provides that eligible injured workers are to be furnished vocational rehabilitation services, and section 8111(b) of the FECA and section 908(g) of the LHWCA provide that persons undergoing such vocational rehabilitation receive maintenance allowances as additional compensation. Form OWCP-44 is used to collect information necessary to decide if maintenance allowances should continue to be paid.

Ira L. Mills,
Departmental Clearance Officer.

[FR Doc. 05-12696 Filed 6-27-05; 8:45 am]

BILLING CODE 4510-CK-P